FEDERAL EMERGENCY MANAGEMENT AGENCY

Open Meeting, Technical Mapping Advisory Council

AGENCY: Federal Emergency Management Agency (FEMA).

ACTION: Notice of meeting.

SUMMARY: In accordance with § 10(a)(2) of the Federal Advisory Committee Act, 5 U.S.C. App. 1, the Federal Emergency Management Agency gives notice that the following meeting will be held:

NAME: Technical Mapping Advisory Council.

DATE OF MEETING: June 1-2, 2000.

PLACE: Federal Emergency Management Agency, Region III Office, Liberty Square Bldg., 2nd Floor, 105 S. Seventh Street, Philadelphia, PA 19106-3316.

TIMES: 8:30 a.m. to 5 p.m., both days.

PROPOSED AGENDA:

1. Call to Order and Announcements.

2. Action on Minutes of Previous Meetings.

3. Discussion of Final Annual Report.

4. New Business.

5. Adjournment.

STATUS: This meeting is open to the public.

FOR FURTHER INFORMATION CONTACT: Michael K. Buckley, P.E., Federal Emergency Management Agency, 500 C Street SW., room 421, Washington, DC 20472, telephone (202) 646-2756 or by facsimile at (202) 646-4596.

SUPPLEMENTARY INFORMATION: This meeting is open to the public with limited seating available on a first-come, first-served basis. Members of the general public who plan to attend the meeting should contact Ms. Sally P. Magee, Federal Emergency Management Agency, 500 C Street SW., room 442, Washington, DC 20472, telephone (202) 646-8242 or by facsimile at (202) 646-4596 on or before May 29, 2000.

Minutes of the meeting will be prepared and will be available upon request 30 days after they have been approved by the next Technical Mapping Advisory Council meeting.

Dated: May 22, 2000.
Michael J. Armstrong,
Associate Director for Mitigation.

[FR Doc. 00-13326 Filed 5-25-00; 8:45 am]

BILLING CODE 6718-04-P